DEPARTMENT OF AGRICULTURE

Forest Service

Northern New Mexico Resource Advisory Committee

AGENCY: Forest Service, USDA.

ACTION: Notice of meeting.

SUMMARY: The Northern New Mexico Resource Advisory Committee (NNM RAC) will meet in Albuquerque, New Mexico. The committee is authorized under the Secure Rural Schools and Community Self-Determination Act (Pub. L. 112-141) (the Act) and operates in compliance with the Federal Advisory Committee Act. The purpose of the committee is to improve collaborative relationships and to provide advice and recommendations to the Forest Service concerning projects and funding consistent with title II of the Act. The meeting is open to the public. The purpose of the meeting is to review and recommend projects authorized under title II of the Act and funds to be allocated and to discuss acquisition management instruments for implementation of title II projects, review monitoring report, review and approve administrative costs, provide opportunity for proponents to present proposals (5 minutes each), provide NNM RAC members opportunity to ask questions about proposals (3 minutes each), review proposal recommendation process, review and rank project proposal by Category Groups, provide recommendations for funding to Designated Federal Officials and provide for public comment.

DATES: The meeting will be held on September 10, 2012 beginning at 10 a.m. and ending at 5 p.m. and on September 11, 2012 beginning at 8 a.m. and ending at 5 p.m.

ADDRESSES: The meeting will be held at the Cibola National Forest Supervisor's Office conference room located at 2113 Osuna Rd. NE., Albuquerque, NM 87113. Written comments may be submitted as described under Supplementary Information. All comments, including names and addresses when provided, are placed in the record and are available for public inspection and copying. The public may inspect comments received at Santa Fe National Forest, 11 Forest Lane, Santa Fe, NM 87508. Please call ahead to 505-438-5356 to facilitate entry into the building to view comments.

FOR FURTHER INFORMATION CONTACT: Ruben Montes, RAC Coordinator, Santa Fe. National Forest, 575-438-5356, rmontes@fs.fed.us

Individuals who use telecommunication devices for the deaf (TDD) may call the Federal Information Relay Service (FIRS) at 1-800-877-8339 between 8 a.m. and 8 p.m., Eastern Standard Time, Monday through Friday. Requests for reasonable accommodation for access to the facility or proceedings may be made by contacting the person listed in For Further Information.

SUPPLEMENTARY INFORMATION: The following business will be conducted: review the status of Title II and funds to be allocated, discuss acquisition management instruments for implementation of Title II projects, review monitoring report, review and approve administrative costs, provide opportunity for proponents to present proposals (5 minutes each), provide NNM RAC members an opportunity to ask questions about proposals (3 minutes each), review the proposal recommendation process, review and rank project proposals by Category Groups, provide recommendations for funding to the Designated Federal Official and provide for public comment. Further information can be found at http://www.fs.usda.gov/detail/carson/home/?cid=STELPRDB5277099.

Anyone who would like to bring related matters to the attention of the committee may file written statements with the committee staff before or after the meeting. The agenda will include time for people to make oral statements of three minutes or less. Individuals wishing to make an oral statement should request in writing by August 31, 2012 to be scheduled on the agenda. Written comments and requests for time for oral comments must be sent to 11 Forest Lane, Santa Fe, New Mexico 87508, or by email to rmontes@fs.fed.us, or via facsimile to 505-438-5390. A summary of the meeting will be posted at http://www.fs.usda.gov/detail/carson/home/?cid=STELPRDB5277099 within 21 days of the meeting.

Meeting Accommodations: If you are a person requiring reasonable accommodation, please make requests in advance for sign language interpreting, assistive listening devices or other reasonable accommodation for access to the facility or proceedings by contacting the person listed under For Further Information Contact. All reasonable accommodation requests are managed on a case by case basis.

Dated: August 3, 2012.
Diana M. Trujillo,
Designated Federal Official.

[FR Doc. 2012-20005 Filed 8-14-12; 8:45 am]

BILLING CODE 3410-11-P